DEPARTMENT OF COMMERCE

National Oceanic and Atmospheric Administration

RIN 0648-XA679

Pacific Fishery Management Council (Council); Public Meeting

AGENCY: National Marine Fisheries Service (NMFS), National Oceanic and Atmospheric Administration (NOAA), Commerce.

ACTION: Notice of public meeting.

SUMMARY: The Pacific Fishery Management Council (Pacific Council) will convene a meeting via conference call of the Ecosystem Plan Development Team (EPDT) which is open to the public.

DATES: The EPDT will meet on Wednesday, September 21, 2011 and Thursday, September 22, 2011 from 1 p.m. to 5 p.m. each day, or when business for each day is completed.

ADDRESSES: Public listening stations will be available at the following locations: Pacific Fishery Management Council, Small Conference Room, 7700 NE. Ambassador Place, Suite 101; Portland, Oregon 97220; Telephone: 503-820-2280. National Marine Fisheries Service, Southwest Fisheries Science Center, Conference Room, 110 Shaffer Road, Santa Cruz, California 95060; Telephone: 831-420-3900.

FOR FURTHER INFORMATION CONTACT: Mike Burner, Staff Officer; telephone: 503-820-2280.

SUPPLEMENTARY INFORMATION: Please note, this is not a public hearing; it is a work session for the primary purpose of drafting a report and recommendations to the Council on the Schedule and Plans for Developing a Fishery Ecosystem Plan (FEP). The EPDT will primarily address Council requests from the June 2011 Council meeting where the Council approved a draft purpose and need statement and moved to develop an ecosystem plan that is primarily advisory in nature with the potential for expanding the plan to include regulatory authority in the future. The Council recommended continued management of fisheries through existing fishery management plans (FMPs), including potential future management measures for forage fish species. The Council also tasked the EPDT with developing a list of West Coast species that are not currently included in any FMP, that are not under State management, are not listed under the Endangered Species Act, or are species that could be the target of future fishery exploitation.

Although non-emergency issues not contained in the meeting agenda may come before the EPDT for discussion, those issues may not be the subject of formal EPDT action during this meeting. EPDT action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at 503-820-2280 at least five days prior to the meeting date.

Dated: August 30, 2011.
Tracey L. Thompson,
Acting Director, Office of Sustainable Fisheries, National Marine Fisheries Service.

[FR Doc. 2011-22495 Filed 9-1-11; 8:45 am]

BILLING CODE 3510-22-P